DEPARTMENT OF COMMERCE

International Trade Administration

[A-427-818]

Low-Enriched Uranium From France: Final Results of Sunset Review and Revocation of Antidumping Duty Order

AGENCY: Enforcement and Compliance, International Trade Administration, Department of Commerce.

SUMMARY: On November 1, 2018, the Department of Commerce (Commerce) initiated a sunset review of the antidumping duty order on low-enriched uranium (LEU) from France. Because no domestic interested party responded to the sunset review notice of initiation by the applicable deadline, Commerce is revoking the antidumping duty order on LEU from France.

DATES: Applicable March 15, 2019.

FOR FURTHER INFORMATION CONTACT: Jacqueline Arrowsmith or Charlotte Baskin-Gerwitz, AD/CVD Operations, Office VII, Enforcement and Compliance, International Trade Administration, U.S. Department of Commerce, 1401 Constitution Avenue NW, Washington, DC 20230; telephone: (202) 482-5255 or (202) 482-4880, respectively.

SUPPLEMENTARY INFORMATION: On February 13, 2002, Commerce issued an antidumping duty order on imports of low-enriched uranium from France.¹ In the first two sunset reviews, Commerce and the International Trade Commission (ITC) determined that continuation of the order was warranted.² On November 1, 2018, Commerce initiated the current sunset review pursuant to section 751(c) of the Tariff Act of 1930, as amended (the Act) and 19 CFR 351.218.³

¹ See Low Enriched Uranium from France; Notice of Amended Final Determination of Sales at Less Than Fair Value and Antidumping Duty Order, 67 FR 6880 (February 13, 2002).

² See Low Enriched Uranium from France; Continuation of Antidumping Order, 73 FR 449 (January 3, 2008); Low Enriched Uranium from France; Continuation of Antidumping Order, 78 FR 77650 (December 24, 2013).

³ See Low Enriched Uranium from France; Initiation of Five-Year (Sunset) Reviews, 83 FR 54915 (November 1, 2018) (Initiation Notice).

We did not receive a notice of intent to participate from the domestic interested parties in this sunset review. As a result, in accordance with 19 CFE 351.218(d)(1)(iii)(A), Commerce has determined that no domestic interested party intends to participate in the sunset review. On November 28, 2018, Commerce notified the ITC in writing that we intend to revoke the antidumping duty order on low-enriched uranium from France.⁴ Commerce exercised its discretion to toll all deadlines affected by the partial federal government closure from December 22, 2018, through the resumption of operations on January 29, 2019.⁵ If the new deadline falls on a non-business day, in accordance with Commerce's practice, the deadline will become the next business day. The revised deadline for the Revocation Order is now March 11, 2019.

⁴ See Department Letter re: Sunset Reviews Initiated on May 1, 2018, dated May 18, 2018.

⁵ See memorandum to the Record from Gary Taverman, Deputy Assistant Secretary for Antidumping and Countervailing Duty Operations, performing the non-exclusive functions and duties of the Assistant Secretary for Enforcement and Compliance, “Deadlines Affected by the Partial Shutdown of the Federal Government,” dated January 28, 2019. All deadlines in this segment of the proceeding have been extended by 40 days.

Scope of the Order

The product covered by the order is all low-enriched uranium. Low-enriched uranium is enriched uranium hexafluoride (UF6) with a U²³⁵ product assay of less than 20 percent that has not been converted into another chemical form, such as UO2, or fabricated into nuclear fuel assemblies, regardless of the means by which the LEU is produced (including low-enriched uranium produced through the down-blending of highly enriched uranium).

Certain merchandise is outside the scope of this order. Specifically, this order does not cover enriched uranium hexafluoride with a U²³⁵ assay of 20 percent or greater, also known as highly-enriched uranium. In addition, fabricated low-enriched uranium is not covered by the scope of this order. For the purposes of this order, fabricated uranium is defined as enriched uranium dioxide (UO2), whether or not contained in nuclear fuel rods or assemblies. Natural uranium concentrates (U3O8) with a U²³⁵ concentration of no greater than 0.711 percent and natural uranium concentrates converted into uranium hexafluoride with a U²³⁵ concentration of no greater than 0.711 percent are not covered by the scope of this order.

Also excluded from this order is low-enriched uranium owned by a foreign utility end-user and imported into the United States by or for such end-user solely for purposes of conversion by a U.S. fabricator into uranium dioxide (UO2) and/or fabrication into fuel assemblies so long as the uranium dioxide and/or fuel assemblies deemed to incorporate such imported low-enriched uranium (i) remain in the possession and control of the U.S. fabricator, the foreign end-user, or their designated transporter(s) while in U.S. customs territory, and (ii) are re-exported within eighteen (18) months of entry of the low-enriched uranium for consumption by the end-user in a nuclear reactor outside the United States. Such entries must be accompanied by the certifications of the importer and end user.

The merchandise subject to this order is classified in the Harmonized Tariff Schedule of the United States (HTSUS) at subheading 2844.20.0020. Subject merchandise may also enter under 2844.20.0030, 2844.20.0050, and 2844.40.00. Although the HTSUS subheadings are provided for convenience and customs purposes, the written description of the merchandise is dispositive.

Revocation

Pursuant to section 751(c)(3)(A) of the Act and 19 CFR 351.218(d)(1)(iii)(B)(3), if no domestic interested parties respond to a notice of initiation, Commerce shall, within 90 days after the initiation of the review, revoke the order. Because no domestic interested party filed a notice of intent to participate in this sunset review, we are revoking the antidumping duty order on LEU from France.

Effective Date of Revocation

Pursuant to sections 751(c)(3)(A) and 751(c)(6)(A)(iii) of the Act, and 19 CFR 351.222(i)(2)(i), Commerce will instruct U.S. Customs and Border Protection to terminate the suspension of liquidation of the merchandise subject to this order entered, or withdrawn from warehouse, on or after December 24, 2018, the fifth anniversary of the date of publication of the last continuation notice. Entries of subject merchandise prior to the effective date of revocation will continue to be subject to suspension of liquidation and antidumping duty deposit requirements. Commerce will complete any pending reviews of these orders and will conduct administrative reviews of subject merchandise entered prior to the effective date of revocation in response to appropriately filed requests for review.

These five-year (sunset) reviews and this notice are issued and published in accordance with sections 751(c) and 777(i)(1) of the Act.

Dated: March 12, 2019.
P. Lee Smith,
Deputy Assistant Secretary for Policy and Negotiations.

[FR Doc. 2019-04882 Filed 3-14-19; 8:45 am]

BILLING CODE 3510-DS-P